DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Boundary and Annexation Survey.

OMB Control Number: 0607-0151.

Form Number(s): BAS 1, BAS 2, BAS 3, BAS 4, BAS 5, BAS 6, BAS ARF, BASSC-1, BASSC-2.

Type of Request: Revision of a currently approved collection.

Burden Hours: 169,368.

Number of Respondents: 84,464.

Average Hours per Response: 2 hours.

Needs and Uses: The Boundary and Annexation Survey (BAS) is conducted to provide information documenting the creation of newly incorporated municipalities, minor civil divisions (MCDs), counties, federally recognized American Indian areas (AIAs, which include reservations and/or off-reservation trust lands), and Alaska Native Regional Corporations (ANRCs), the dissolution of incorporated municipalities and MCDs, and changes in the boundaries of municipalities, MCDs, counties, AIAs, and ANRCs. The BAS information is used to provide an appropriate record for reporting the results of the decennial and economic censuses; annual surveys to support the annual population estimates program, and the American Community Survey, to update the municipal, MCD, county, AIA, and ANRC inventory for compliance with responsibilities specified in the OMB Circular A-16 Governmental Units and Administrative and Statistical Boundaries Data Theme that supports the spatial data steward responsibilities of the OMB E-Gov, Data.gov, The National Map, and to update the Geographic Names Information Systems (GNIS).

The BAS universe and mailing materials vary depending both upon the needs of the Census Bureau in fulfilling its censuses and household surveys, and upon budget constraints.

Counties or equivalent entities federally recognized American Indian reservations, off-reservation trust lands, and tribal subdivisions are included in every BAS.

In the years ending in 8, 9 and 0, the BAS includes all governmentally active counties and equivalent entities, incorporated places, and legally defined minor civil divisions, and legally defined federally recognized American Indian and Alaska Native areas (including the Alaska Native Regional Corporations). Each governmental entity surveyed will receive materials covering its jurisdiction and one or more forms. These three years coincide with the Census Bureau's preparation for the decennial census. There are less than 40,000 governments in the universe each year.

In all other years, the BAS reporting universe includes all legally defined federally recognized American Indian and Alaska Native areas, all governmental counties and equivalent entities, minor civil divisions in the six New England States and those incorporated places that have a population of 2,500 or greater. The reporting universe is approximately 14,000 governments. The Census Bureau follows up on a subset of governments designated as the reporting universe.

In the years ending in 1 through 7, the Census Bureau may enter into agreements with individual States to modify the universe of minor civil divisions and/or incorporated places to include additional entities that are known by that State to have had boundary changes, without regard to population size. Each year, the BAS will also include each year a single respondent request for municipio, barrio, barrio-pueblo, and subbarrio boundary and status information in Puerto Rico and Hawaiian Homeland boundary and status information in Hawaii.

No other Federal agency collects these data nor is there a standard collection of this information at the State level. The Census Bureau's BAS is a unique survey providing a standard result for use by federal, state, local, and tribal governments and by commercial, private, and public organizations.

As part of our partnerships developed with state and county governments, the universe is modified with local knowledge to target those governments known to have changes and delete governments with no changes to minimize unnecessary burden.

The final stage is our newly added quality assurance State Certification program, allowing the state level agencies to verify that the status and boundary updates received through the annual BAS were accomplished according to state law. During each cycle of this program, Governor-designated State Certifying Officials (SCO) review listings of legal boundary changes reported to the BAS during the previous year. The SCO is able to certify, edit, add, or reverse reported annexations, and they may mark a legal boundary change as a duplicate of a previously reported change.

In addition, we are removing the Boundary Validation Program (BVP) from the clearance. The BVP is conducted only for the year of the decennial census.

The BAS information is used to: (1) Classify data collected in the periodic decennial and economic censuses and annual surveys; (2) serve as the primary source of information regarding new incorporations, disincorporations, and other changes in the local and tribal government inventory for the FIPS and GNIS programs, state and local officials, and private data users, (3) update its estimates of the population as a result of the creation of new governments, the dissolution of governments, or changes in boundaries for existing local or tribal governments, (4) serve as the source for governmental unit boundary information as a framework layer of the National Spatial Data Infrastructure for The National Map and the data.gov Web site.

Affected Public: State, local, or Tribal governments.

Frequency: Annually.

Respondent's Obligation: Voluntary.

Legal Authority: Title 13 U.S.C., Section 6.

OMB Desk Officer: Brian Harris-Kojetin, (202) 395-7314.

Copies of the above information collection proposal can be obtained by calling or writing Jennifer Jessup, Departmental Paperwork Clearance Officer, (202) 482-0336, Department of Commerce, Room 6616, 14th and Constitution Avenue NW., Washington, DC 20230 (or via the Internet at jjessup@doc.gov).

Written comments and recommendations for the proposed information collection should be sent within 30 days of publication of this notice to Brian Harris-Kojetin, OMB Desk Officer either by fax (202-395-7245) or email (bharrisk@omb.eop.gov).

Dated: November 30, 2012.
Glenna Mickelson,
Management Analyst, Office of the Chief Information Officer.

[FR Doc. 2012-29418 Filed 12-5-12; 8:45 am]

BILLING CODE 3510-07-P